DEPARTMENT OF COMMERCE

Foreign-Trade Zones Board

[Docket 37-2009]

Foreign-Trade Zone 272 - Lehigh Valley, Pennsylvania, Application for Expansion

An application has been submitted to the Foreign-Trade Zones Board (the Board) by the Lehigh Valley Economic Development Corporation, grantee of FTZ 272, requesting authority to expand FTZ 272 to include an additional site in Bethlehem, Pennsylvania. The application was submitted pursuant to the provisions of the Foreign-Trade Zones Act, as amended (19 U.S.C. 81a-81u), and the regulations of the Board (15 CFR part 400). It was formally filed on September 9, 2009.

FTZ 272 was approved on April 5, 2007 (Board Order 1502, 72 FR 18960, 4/16/07), and expanded on February 13, 2009 (Board Order 1605, 74 FR 8903, 2/27/09). The zone currently consists of eight sites (1,927 acres total): Site 1 (727 acres) -- Lehigh Valley Industrial Park VII, 1805 East 4th Street, Bethlehem; Site 2 (96 acres) -- Arcadia East Industrial Park, intersection of Route 512 and Silver Crest Road, East Allen Township; Site 3 (83 acres) -- Arcadia West Industrial Park, intersection of I-78 and Route 863, Weisenberg Township; Site 4 (226 acres) -- West Hills Business Center, intersection of I-78 and Route 863, Weisenberg Township; Site 5 (399 acres) -- Boulder Business Center, intersection of Boulder Drive and Industrial Boulevard, Breinigsville (Upper Macungie Township); Site 6 (183 acres) -- Lehigh Valley West Corporate Center, intersection of Nestle Way and Schantz Road, Breinigsville (Upper Macungie Township); Site 7 (213 acres) -- within the LogistiCenter, 4950 Hanoverville Road, Bethlehem (Lower Nazareth Township); and, Site 8 (163 acres) -- Prologis 33 warehouse facility, 3819 and 3850 ProLogis Parkway, Northampton County.

The applicant is requesting authority to expand the zone to include an additional site in Bethlehem (Northampton County): Proposed Site 9 (442 acres) -- Majestic Bethlehem Center located at 3001 Commerce Center Boulevard. The site will provide warehousing and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is November 17, 2009. Rebuttal comments in response to material submitted during the foregoing period may be submitted during the subsequent 15-day period to December 2, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Camille Evans at Camille_Evans@ita.doc.gov or (202) 482-2350.

Dated: September 9, 2009.
Andrew McGilvray,
Executive Secretary.

[FR Doc. E9-22495 Filed 9-17-09; 8:45 am]

BILLING CODE 3510-DS-S